DEPARTMENT OF THE TREASURY

Submission for OMB Review; Comment Request

August 15, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 24, 2003 to be assured of consideration.

Bureau of the Public Debt (PD)

OMB Number: 1535-0004.

Form Number: PD F 1522.

Type of Review: Extension.

Title: Special Form of Request for Payment of U.S. Savings and Retirement Securities Where Use of a Detached Request is Authorized.

Description: Used to request payment of U.S. Savings Securities.

Respondents: Individuals or households.

Estimated Number of Respondents: 56,000.

Estimated Burden Hours Per Respondent: 15 minutes.

Frequency of Response: On occasion.

Estimated Total Reporting Burden Hours: 14,000 hours.

OMB Number: 1535-0005.

Form Number: PD F 3253.

Type of Review: Extension.

Title: Exchange Application for U.S. Savings Bonds of Series HH.

Description: Used by owners of Series EE/E bonds to request exchange for Series HH bonds.

Respondents: Individuals or households.

Estimated Number of Respondents: 60,000.

Estimated Burden Hours Per Respondent: 40 minutes.

Frequency of Response: On occasion.

Estimated Total Reporting Burden Hours: 39,960 hours.

OMB Number: 1535-0006.

Form Number: PD F 2458.

Type of Review: Extension.

Title: Certificate of Entitlement to U.S. Savings Bonds/Checks after Administration of Estate.

Description: Used to establish entitlement of savings bonds after estate is settled.

Respondents: Individuals or households.

Estimated Number of Respondents: 7,000.

Estimated Burden Hours Per Respondent: 8 minutes.

Frequency of Response: On occasion.

Estimated Total Reporting Burden Hours: 938 hours.

OMB Number: 1535-0008.

Form Number: PD F 1938.

Type of Review: Extension.

Title: Request for Reissue of U.S. Savings Bonds to Remove Name of One or More Living Registrants.

Description: Used to request reissue of savings bonds to remove one or more living registrants.

Respondents: Individuals or households.

Estimated Number of Respondents: 500.

Estimated Burden Hours Per Respondent: 55 minutes.

Frequency of Response: On occasion.

Estimated Total Reporting Burden Hours: 460 hours.

OMB Number: 1535-0015.

Form Number: PD F 1022.

Type of Review: Extension.

Title: Report/Application for Relief of Loss, Theft or Destruction of Bearer Securities (Organizations).

Description: Used to obtain relief for lost, stolen or destroyed bearer securities.

Respondents: Business of other for-profit, Not-for-profit institutions, Federal Government, State, Local or Tribal Government.

Estimated Number of Respondents: 100.

Estimated Burden Hours Per Respondent: 55 minutes.

Frequency of Response: On occasion.

Estimated Total Reporting Burden Hours: 92 hours.

OMB Number: 1535-0016.

Form Number: PD F 1022-1.

Type of Review: Extension.

Title: Report/Application for Relief of Loss, Theft or Destruction of Bearer Securities (Individuals).

Description: Used to request relief because of the loss, theft or destruction of bearer securities.

Respondents: Individuals or households.

Estimated Number of Respondents: 100.

Estimated Burden Hours Per Respondent: 55 minutes.

Frequency of Response: On occasion.

Estimated Total Reporting Burden Hours: 92 hours.

OMB Number: 1535-0067.

Form Number: PD F 0974.

Type of Review: Extension.

Title: Affidavit of Forgery for United States Savings Bonds.

Description: Used to certify that signature was forged.

Respondents: Individuals or households.

Estimated Number of Respondents: 3,000.

Estimated Burden Hours Per Respondent: 15 minutes.

Frequency of Response: On occasion.

Estimated Total Reporting Burden Hours: 750 hours.

OMB Number: 1535-0098.

Form Number: PD F 3062-4.

Type of Review: Extension.

Title: Claim for Relief on Account of the Nonreceipt of United States Savings Bonds.

Description: Application by owner to request a substitute bond in lieu of bond not received.

Respondents: Individuals or households.

Estimated Number of Respondents: 30,000.

Estimated Burden Hours Per Respondent: 10 minutes.

Frequency of Response: On occasion.

Estimated Total Reporting Burden Hours: 5,010 hours.

Clearance Officer: Vicki S. Thorpe (304) 480-6553, Bureau of the Public Debt, 200 Third Street, Parkersburg, West VA 26106-1328.

OMB Reviewer: Joseph F. Lackey, Jr. (202) 395-7316, Office of Management and Budget, Room 10235, New Executive Office Building, Washington, DC 20503.

Lois K. Holland,
Departmental Reports Management Officer.

[FR Doc. 03-21535 Filed 8-22-03; 8:45 am]

BILLING CODE 4810-39-P